DEPARTMENT OF LABOR

Office of the Secretary

Submission for OMB review; Comment Request

July 21, 2003.

The Department of Labor (DOL) has submitted the following public information collection request (ICR) to the Office of Management and Budget (OMB) for review and approval in accordance with the Paperwork Reduction Act of 1994 (Pub. L. 104-13, 44 U.S.C. Chapter 35). A copy of this ICR, with applicable supporting documentation, may be obtained by calling the Department of Labor. To obtain documentation, contact Vanessa Reeves on (202) 693-4124 (this is not a toll-free number) or E-Mail: reeves.vanessa2@dol.gov.

Comments should be sent to Office of Information and Regulatory Affairs, Attn: OMB Desk Officer for the Employment and Training Administration (ETA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on whose who are to respond, including through the use of appropriate automated, electronic, mechanical, or other technological collection techniques or other forms of information technology, e.g., permitting electronic submission of responses.

Agency: Employment and Training Administration.

Type of Review: Extension of a currently approved collection.

Title: Weekly Claims and Extended Benefits Data and Weekly Initial and Continued Weeks Claimed.

OMB Number: 1205-0028.

Affected Public: State, Local, or Tribal Government.

Type of Response: Reporting.

Frequency: Weekly.

Number of Respondents: 53.

Information collection requirement | Annual responses | Average response time (hours) | Annual burden hours
ETA 538 | 2,756 | .50 | 1,378
ETA 539 | 2,756 | .833 | 2,297
Total | 5,512 |  | 3,675

Total Annualized Capital/Startup Costs: $0.

Total Annual Costs (operating/maintaining systems or purchasing services): $0.

Description: The ETA 538 and ETA 539 reports are weekly reports which contain information on initial claims and continued weeks claimed. These figures are important economic indicators. The ETA 538 provides information that allows national unemployment claims information to be released to the public five days after the close of the reference period. The ETA 539 contains more refined weekly claims detail and the state's 13-week insured unemployment rate, which is used to determine eligibility for the Extended Benefits program.

Darrin A. King,
Acting Departmental Clearance Officer.

[FR Doc. 03-18966 Filed 7-24-03; 8:45 am]

BILLING CODE 4510-30-M